ENVIRONMENTAL PROTECTION AGENCY

[FRL-9218-9 ]

Science Advisory Board Staff Office; Notification of a Public Meeting of the Science Advisory Board Nutrient Criteria Review Panel

AGENCY: Environmental Protection Agency (EPA).

ACTION: Notice.

SUMMARY: The EPA Science Advisory Board (SAB) Staff Office announces a public meeting of the SAB Nutrient Criteria Review Panel. The Panel will review EPA's technical support document on development of numeric nutrient criteria for Florida's estuarine and coastal waters, and southern canals.

DATES: The meeting will be held on Monday, December 13, 2010, and Tuesday, December 14, 2010, beginning at 8:30 a.m. and ending no later than 5 p.m. (Eastern Time), each day.

ADDRESSES: The public meeting will be held at the Washington Plaza Hotel, 10 Thomas Circle, NW., Washington, DC 20005.

FOR FURTHER INFORMATION CONTACT: Members of the public who wish to obtain further information about this meeting may contact Ms. Stephanie Sanzone, Designated Federal Officer (DFO), EPA Science Advisory Board Staff Office (1400R), U.S. Environmental Protection Agency, 1200 Pennsylvania Avenue, NW., Washington, DC 20460; by telephone/voice mail: (202) 564-2067 or via e-mail at sanzone.stephanie@epa.gov. General information about the SAB is available on the SAB Web site at http://www.epa.gov/sab.

SUPPLEMENTARY INFORMATION: Pursuant to the Federal Advisory Committee Act (FACA), 5 U.S.C., App. 2, notice is hereby given that the SAB Nutrient Criteria Review Panel will hold a public meeting to review a draft technical support document (TSD) being developed by the Office of Water (OW). The draft TSD will describe methods and approaches for developing numeric nutrient criteria for Florida's estuarine and coastal waters, downstream protection values in streams to protect those waters, and criteria for flowing waters in the south Florida region (including canals). The Nutrient Criteria Review Panel has been asked to review and comment on the scientific validity of the Agency's draft TSD.

The SAB was established pursuant to 42 U.S.C. 4365 to provide independent scientific and technical advice to the Administrator on the technical basis for Agency positions and regulations. The SAB is a Federal Advisory Committee chartered under FACA. The SAB Nutrient Criteria Review Panel will provide advice through the chartered SAB. The SAB Panel will comply with the provisions of FACA and all appropriate SAB Staff Office procedural policies.

Availability of Meeting Materials: The Charge to the Panel and the EPA draft technical support document will be available by mid-November, and will be posted on the SAB Web site at http://yosemite.epa.gov/sab/sabproduct.nsf/fedrgstr_activites/FL%20Estuaries%20TSD?OpenDocument. The EPA Office of Water technical contact for the draft TSD is Elizabeth Behl, at (202) 566-0788, or via e-mail at behl.betsy@epa.gov. The meeting agenda for December 13-14, 2010 and other meeting materials also will be posted on the SAB Web site prior to the meeting.

Procedures for Providing Public Input: Public comment for consideration by EPA's Federal advisory committees and panels has a different purpose from public comment provided to EPA program offices. Therefore, the process for submitting comments to a Federal advisory committee is different from the process used to submit comments to an EPA program office.

Federal advisory committees and panels, including scientific advisory committees, provide independent advice to EPA. Members of the public can submit comments for a Federal advisory committee to consider as it develops advice for EPA. They should send their comments directly to the Designated Federal Officer for the relevant advisory committee. Interested members of the public may submit relevant written information on the group conducting the activity or written or oral information for the Panel to consider on the topics of this review. Oral Statements: In general, individuals or groups requesting an oral presentation at a public meeting will be limited to five minutes per speaker. Interested parties should contact Ms. Sanzone at the contact information provided above by December 6, 2010, to be placed on the public speaker list for the December 13-14, 2010 meeting. Written Statements: Written statements should be received in the SAB Staff Office by December 6, 2010, so that the information can be made available to the Panel for their consideration prior to the meeting. Written statements should be supplied to Ms. Sanzone in the following formats: One hard copy with original signature and one electronic copy via e-mail (acceptable file format: Adobe Acrobat PDF, MS Word, WordPerfect, MS PowerPoint, or Rich Text files). Submitters are asked to provide electronic versions of each document submitted with and without signatures, because the SAB Staff Office does not publish documents with signatures on its Web sites.

Accessibility: For information on access or services for individuals with disabilities, please contact Ms. Sanzone at (202) 564-2067, or via e-mail at sanzone.stephanie@epa.gov, preferably at least ten (10) days prior to the meeting, to give EPA as much time as possible to process your request.

Dated: October 25, 2010.
Vanessa T. Vu,
Director, EPA Science Advisory Board Staff Office.

[FR Doc. 2010-27430 Filed 10-28-10; 8:45 am]

BILLING CODE 6560-50-P